DEPARTMENT OF ENERGY

Federal Energy Regulatory Commission

[Docket No. RP00-271-001]

Mississippi Canyon Gas Pipeline, L.L.C.; Notice of Proposed Changes in FERC Gas Tariff

May 31, 2000.

Take notice that on May 25, 2000, Mississippi Canyon Gas Pipeline, LLC (MCGP) tendered for filing as part of its FERC Gas Tariff, Original Volume No. 1, the following revised tariff sheets to be effective June 1, 2000:

Substitute First Revised Sheet No. 309

Substitute First Revised Sheet No. 310

On May 25, 2000, MCGP filed tariff sheets in Docket No. RP00-271-000 (May 5th filing) to revise its Form of Interactive Internet Website Agreement because of a change of vendors for its interactive Internet website computer applications. On May 19, 2000, a shipper filed a motion to intervene out-of-time and protest objecting to certain language revisions included in that filing. MCGP is making the instant filing to alleviate the shipper's concerns by removing and replacing the tariff references the shipper objected to with the existing tariff language at the time of the May 5th filing. In addition, MCGP is correcting an incorrect reference to Interactive Internet Website that was included in the May 5th filing. MCGP requests waiver of the 30-day notice requirement in section 154.207 so that the tariff sheets contained herein can become effective on the same date as the tariff sheets filed in the original May 5th filing.

Any person desiring to protest such filing should file a protest with the Federal Energy Regulatory Commission, 888 First Street, NE., Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may also be viewed on the web at http://www.ferc.fed.us/online/rims.htm (call 202-208-2222 for assistance).

Linwood A. Watson, Jr.,
Acting Secretary.

[FR Doc. 00-14079 Filed 6-5-00; 8:45 am]

BILLING CODE 6717-01-M